DEPARTMENT OF THE INTERIOR

National Park Service

Notice of Emergency Approval of a 6 Month Study Package; 60-Day Notice of Intent To Inform the Public of This Collection of Information; National Park Service's Evaluation of Pilot Interventions To Increase Healthful Physical Activity in Parks

AGENCY: Department of the Interior, National Park Service.

ACTION: Notice and request for comments.

SUMMARY: Under provisions of the Paperwork Reduction Act of 1995 and 5 CFR Part 1320, Reporting and Record Keeping Requirements, the National Park Service (NPS) has requested and received emergency approval on the collection of information: NPS' Evaluation of Pilot Interventions to Increase Healthful Physical Activity in Parks (OMB #1024-0253). The NPS invites public comments on the emergency approval of this currently approved collection.

DATES: Public comments on the proposed Information Collection Request (ICR) will be accepted on or before October 2, 2007.

ADDRESSES: Send comments to: Dr. James Gramann, NPS Social Science Program, 1201 Eye St., NW. (2300), Washington, DC 20005; or by e-mail at igramann@tamu.edu., or by fax at 979/845-4792. Also, you may send comments to Leonard Stowe, NPS Information Collection Clearance Officer, 1849 C St., NW. (2605), Washington, DC 20240, or by e-mail at leonard_stowe@nps.gov.

FOR FURTHER INFORMATION CONTACT: Diana Allen, NPS Rivers, Trails and Conservation Assistance Program, 11 N. 4th St., St. Louis, Missouri 63102; phone: (314) 655-1625; fax: (314) 655-1646; e-mail: Diana_Allen@nps.gov. You are entitled to a copy of the entire ICR package free-of-charge.

SUPPLEMENTARY INFORMATION:

Title: National Park Service's Evaluation of Pilot Interventions to Increase Healthful Physical Activity in Parks.

Form Number(s): None.

OMB Number: 1024-0253.

Expiration Date: 11/30/2007.

Type of Request: 6 Month Emergency Approval.

Description of Need: President George W. Bush's HealthierUS Initiative and Executive Order 13266 calls on Federal agencies to improve the flow and use of information on personal fitness and increase the accessibility of resources for physical activity. In March 2006, the Health and Recreation Committee of the National Park Service (NPS) Advisory Board recommended that the agency undertake seven pilot projects to determine how the NPS could effectively implement the key objectives of the HealthierUS Initiative. The reports and its recommendations were accepted by the NPS Director. The pilot interventions will employ quasi-experimental designs to evaluate a variety of methods for increasing healthful physical activity by park visitors and/or residents of communities near parks. The pilots include three “destination” parks (Sitka National Historical Park, Zion National Park, and Acadia National Park) and four “urban” parks (Cuyahoga Valley National Park, Chesapeake and Ohio Canal National Historical Park, Point Reyes National Seashore, and Timucuan Ecological and Historic Preserve). Data collection is set to take place at the different NPS units during the summer and into the early fall of 2007. Pilot projects include using surveys to measure activity levels both before and after healthy activity interventions, as well as focus groups to better understand decision-making and behavior related to physical participation.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that you entire comment—including your personal identifying information—may be made publicly available at any time. While you can ask us in your comment to withhold your personal identifying information from public review, we cannot guarantee that we will be able to do so.

Frequency of Collection: On occasion.

Description of Respondents: Respondents will include general recreation visitors, employees of businesses near NPS units, and youth in communities near NPS units.

Automated Data collection: This information will be collected via on-site surveys, interviews, and focus groups. No automated data collection will take place.

Estimated Average Number of Respondents: 3,892 per year.

Estimated Average Number of Responses: 3,892 per year.

Estimated Average Time Burden Per Response: 17 minutes per respondent

Frequency of Response: 1 time per respondent.

Estimated Total Annual Reporting Burden: 1,097 hours per year.

Dated: July 27, 2007.
Leonard E. Stowe,
NPS, Information Collection Clearance Officer.

[FR Doc. 07-3809 Filed 8-2-07; 8:45 am]

BILLING CODE 4310-EM-M